DEPARTMENT OF ENERGY

Federal Energy Regulatory Commission

[Docket No. CP18-493-000]

Notice of Request Under Blanket Authorization: Saltville Gas Storage Company, LLC

Take notice that on May 31, 2018, Saltville Gas Storage Company, L.L.C. (Saltville), 5400 Westheimer Court, Houston, Texas 77056-5310, filed in Docket No. CP18-493-000 a prior notice request pursuant to sections 157.205, 157.208, 157.213 and 157.216 of the Commission's regulations under the Natural Gas Act notifying the Commission of Saltville's intent to drill two new injection and withdrawal (I/W) wells, to replace two previously abandon I/W wells and one existing I/W well, to maintain the deliverability of the Early Grove depleted reservoir facility, as well as to abandon one existing monitoring well at its Early Grove natural gas storage facility in Scott and Washington Counties, Virginia, all as more fully set forth in the application which is on file with the Commission and open to public inspection. The filing may also be viewed on the web at http://www.ferc.gov using the “eLibrary” link. Enter the docket number excluding the last three digits in the docket number field to access the document. For assistance, please contact FERC Online Support at FERCOnlineSupport@ferc.gov or toll free at (866) 208-3676, or TTY, contact (202) 502-8659.

Any questions concerning this application may be directed to Lisa A. Connolly, Director, Rates & Certificates, Saltville Gas Storage Company. L.L.C., P.O. Box 1642, Houston, Texas 77251-1642 at (713) 627-4102 or at lisa.connolly@enbridge.com.

Specifically, Saltville proposes to: (i) Drill new horizontal/high angle I/W wells; (ii) install connecting piping and other appurtenances facilities; (iii) plug and abandon one existing I/W well, EH-96, and one existing monitoring well, EH-95; and (iv) abandon by removal related connecting piping and appurtenance facilities. Saltville states that, the project will have no impact on the certificate parameters of the facility, including total inventory, reservoir pressure, reservoir and buffer boundaries, or certificated capacity, and there will be no abandonment or reduction in service to any customer of Saltville as a result of the project. The project cost will be approximately $20 million.

Pursuant to section 157.9 of the Commission's rules, 18 CFR 157.9, within 90 days of this Notice the Commission staff will either: Complete its environmental assessment (EA) and place it into the Commission's public record (eLibrary) for this proceeding; or issue a Notice of Schedule for Environmental Review. If a Notice of Schedule for Environmental Review is issued, it will indicate, among other milestones, the anticipated date for the Commission staff's issuance of the final environmental impact statement (FEIS) or EA for this proposal. The filing of the EA in the Commission's public record for this proceeding or the issuance of a Notice of Schedule for Environmental Review will serve to notify federal and state agencies of the timing for the completion of all necessary reviews, and the subsequent need to complete all federal authorizations within 90 days of the date of issuance of the Commission staff's FEIS or EA.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenter will not receive copies of all documents filed by other parties or issued by the Commission (except for the mailing of environmental documents issued by the Commission) and will not have the right to seek court review of the Commission's final order.

The Commission strongly encourages electronic filings of comments, protests and interventions in lieu of paper using the “eFiling” link at http://www.ferc.gov. Persons unable to file electronically should submit an original and 5 copies of the protest or intervention to the Federal Energy Regulatory Commission, 888 First Street NE, Washington, DC 20426.

Dated: June 8, 2018.
Kimberly D. Bose,
Secretary.

[FR Doc. 2018-12879 Filed 6-14-18; 8:45 am]

BILLING CODE 6717-01-P